DEPARTMENT OF THE INTERIOR

Bureau of Land Management

[LLNV912000 L16400000.PH0000 LXSS006F0000 261A; 10-08807; MO#4500012081; TAS: 14X1109]

Notice of Public Meeting: Sierra Front Northwestern Basin Resource Advisory Council, Nevada

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Sierra Front-Northwestern Great Basin Resource Advisory Council (RAC), will meet in Carson City, Nevada. The meeting is open to the public.

DATES AND TIMES: March 30-31, 2010, at the BLM Carson City District Office, 5665 Morgan Mill Road, Carson City, Nevada. A field trip to locations in Storey and Washoe counties will occur on March 31. Approximate meeting times are 9 a.m. to 5 p.m. and will include a general public comment period, tentatively scheduled for 1 p.m., unless otherwise listed in the final meeting agenda that will be available two weeks prior to the start of the meeting.

FOR FURTHER INFORMATION CONTACT: Mark Struble, (775) 885-6107, E-mail: mark_struble@nv.blm.gov.

SUPPLEMENTARY INFORMATION: The 15-member Council advises the Secretary of the Interior, through the BLM, on a variety of planning and management issues associated with public land management in Nevada. Topics for discussion will include, but are not limited to: District Manager's reports on current program of work, Draft Winnemucca RMP/EIS, proposed Ruby Pipeline, possible sage grouse listing, BLM Nevada Wild Horse and Burro Program strategies, American Recovery and Reinvestment Act stimulus projects implementation, Southern Nevada Public Land Management Act Round 11 forum and review of nominations, proposed New Comstock Wind Energy Project/EIS area, Washoe County Illegal Dumping Task Force, and other issues that may arise during the meeting. The final agendas with any additions/corrections to agenda topics, locations, field trips and meeting times, will be posted on the BLM Web site at: http://www.blm.gov/nv/st/en/fo/carson_city_field.html, and sent to the media at least 14 days before the meeting. Individuals who need special assistance such as sign language interpretation or other reasonable accommodations, or who wish to receive a copy of each agenda, should contact Mark Struble no later than March 19.

Chris McAlear,
Carson City District Manager.

[FR Doc. 2010-3287 Filed 2-18-10; 8:45 am]

BILLING CODE 4310-HC-P